Title 3—

The President

Presidential Determination No. 2003-15 of February 13, 2003

Presidential Determination to Authorize a Drawdown for Afghanistan and Jordan

Memorandum for the Secretary of State [and] the Secretary of Defense

Pursuant to the authority vested in me by the laws and Constitution of the United States, including section 202 and other relevant provisions of the Afghanistan Freedom Support Act (Public Law 107-327) (the “Act”) and section 506 of the Foreign Assistance Act of 1961, as amended, 22 U.S.C. 2318, I hereby direct the drawdown of up to $165 million of defense articles, defense services, and military education and training from the Department of Defense, $158 million for the Transitional Islamic State of Afghanistan, and $7 million to Jordan to assist in its operations in Afghanistan, and further have determined, in accordance with section 205 of the Act, that such assistance to Jordan is important to the national security interests of the United States.

The Secretary of State is authorized and directed to report this determination to the Congress and to publish this determination in the Federal Register.

B

THE WHITE HOUSE,

Washington, February 13, 2003.

[FR Doc. 03-5464

Filed 3-5-03; 8:45 am]

Billing code 4710-10-P